DEPARTMENT OF ENERGY

Federal Energy Regulatory Commission

[Docket Nos. CP01-384-000, CP01-385-000 and CP01-386-000]

Islander East Pipeline Company, L.L.C.; Notice of Applications

June 22, 2001.

Take notice that on June 15, 2001, Islander East Pipeline Company, L.L.C. (Islander East), P.O. Box 1642, Houston, Texas 77251-1642, filed applications pursuant to Section 7(c) of the Natural Gas Act. In Docket No. CP01-384-000, Islander East seeks a certificate of public convenience and necessity authorizing it to construct, install and operate pipeline, compression, and metering facilities, as well as lease pipeline capacity on Algonquin Gas Transmission Company's (Algonquin) system. In Docket No. CP01-385-000, Islander East seeks a blanket certificate authorizing certain routine activities under Part 157, Subpart F of the Commission's Regulations. In Docket No. CP01-386-000, Islander East seeks a blanket certificate pursuant to 18 CFR part 284, Subpart G of the Commission's Regulations for self-implementing transportation authority. Islander East's proposals are more fully set forth in the application which is on file with the Commission and open to public inspection. This filing may be viewed on the web at http://www.rimsweb1.ferc.fed.us/rims.q?rp~intro (call 202-208-2222 for assistance).

Islander East proposes in Docket No. CP01-384-000 to construct and operate approximately 44.8 miles of 24-inch pipeline from an interconnection with the facilities of Algonquin near North Haven, Connecticut to the town of Brookhaven, New York. At Brookhaven, Islander East will deliver gas to KeySpan Energy Delivery Long Island, a local distribution company, and to Brookhaven Energy Limited Partnership, an affiliate of American National Power, which is developing a power plant in Brookhaven. In addition, Islander East proposes to construct and operate approximately 5.6 miles of 24-inch pipeline from the Islander East mainline near Wading River, New York to a proposed power plant near Calverton, New York that is being developed by AES Endeavor, a division of AES Corporation. Further, Islander East seeks authority to construct and operate three metering stations and other appurtenant facilities. Islander East states that the capacity of the proposed pipeline is 285,000 Dth per day. The estimated cost of the facilities is approximately $149.6 million.

Islander East also seeks authorization to lease 285,000 Dth per day of capacity on Algonquin's C-1 and C-1 L systems for an initial term of 20 years. The fixed monthly lease payment under the lease agreement is $334,135. In addition, Islander East will pay a monthly operating and maintenance charge of $32,307. Islander East states that the monthly lease payment is less than what it would pay Algonquin for firm transportation service and thus meets Commission standards for lease payments.

Islander East proposes to provide open access firm and interruptible service under Rate Schedules FTS and ITS, respectively. Islander East will offer both negotiated and recourse rates. Islander East designed its recourse rate using he straight fixed-variable method. Islander East has also included a pro forma FERC Gas Tariff under which it will provide transportation service.

Islander East asserts that its project will provide the Connecticut, Long Island, and New York City markets with access to gas for: local distribution company growth, new gas-fired electric generating plants, and gas conversions. Further, Islander East states that its proposal is consistent with the Commission's statement of policy on certification of new interstate natural gas pipeline facilities. Islander East requests a preliminary determination on non-environmental issues by December 31, 2001, and final certificate authorization by July 15, 2002. Islander East states that this will allow construction to be completed by its proposed in-service date of November 1, 2003.

Any questions regarding the application should be directed to Steven E. Tillman, Director of Regulatory Affairs, Islander East Pipeline Company, L.L.C., P.O. Box 1642, Houston, Texas 77251-1642 at 713-627-5113 or by facsimile at 713-627-5947.

There are two ways to become involved in the Commission's review of this project. First, any person wishing to obtain legal status by becoming a party to the proceedings for this project should, on or before July 13, 2001, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be place don the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Comments, protests, and interventions may be filed electronically via the internet in lieu of paper. See, 18 CFR 385.2001(a)(1)(iii) and the instructions on the Commission's web site at http://www.ferc.gov/documents/makeanelectronicfiling/doorbell.htm.

If the Commission decides to set the application for a formal hearing before an Administrative Law Judge, the Commission will issue another notice describing that process. At the end of the Commission's review process, a final Commission order approving or denying a certificate will be issued.

David P. Boergers,
Secretary.

[FR Doc. 01-16225 Filed 6-27-01; 8:45 am]

BILLING CODE 6717-01-M